DEPARTMENT OF HEALTH AND HUMAN SERVICES

42 CFR Part 88

[Docket No. CDC-2012-0007; NIOSH-257]

RIN 0920-AA49

World Trade Center Health Program; Addition of Certain Types of Cancer to the List of WTC-Related Health Conditions

AGENCY: Centers for Disease Control and Prevention, HHS.

ACTION: Final rule; correction.

SUMMARY: On September 12, 2012, HHS published a final rule in the Federal Register adding certain types of cancer to the List of WTC-Related Health Conditions. The final rule has an effective date of October 12, 2012. Several ICD coding errors were made in Table 1, which identifies each added cancer type by name and ICD-9 and -10 codes. This correction includes the corrected Table 1, in full. No types of cancer are being added or removed from Table 1 by this action.

DATES: Effective October 12, 2012.

FOR FURTHER INFORMATION CONTACT: Frank J. Hearl, PE, Chief of Staff, National Institute for Occupational Safety and Health, Centers for Disease Control and Prevention, Patriots Plaza, Suite 9200, 395 E St. SW., Washington, DC 20201. Telephone: (202) 245-0625 (this is not a toll-free number). Email: WTCpublicinput@cdc.gov.

SUPPLEMENTARY INFORMATION: On September 12, 2012, HHS published a final rule in the Federal Register adding certain types of cancer to the List of WTC-Related Health Conditions in 42 CFR 88.1 [77 FR 56138]. Several errors were made in the listing of ICD codes for Table 1, which identifies each type of cancer added to the List of WTC-Related Health Conditions in 42 CFR 88.1. The errors and their corrections are as indicated below. No types of cancer are being added or removed from Table 1. The following list, organized by “region” category, notes each error and identifies the correction made:

Head and Neck

The ICD-9 heading code for “malignant neoplasm of palate” included an incorrectly identified code, 149.9; that code is stricken from the heading. The ICD-9 subcode for “palate, unspecified” was incorrectly reported as 145.9 and instead should be 145.5.

The ICD-9 subcode for “mouth, unspecified” was incorrectly reported as 149.9 and instead should be 145.9.

The ICD-9 heading code for “malignant neoplasm of tonsil” included an incorrectly identified code, 146.5; that code is stricken from the heading. The ICD-9 subcode for “overlapping lesion of tonsil” was incorrectly reported as 146.5 and instead should be 146.0.

The ICD-9 heading codes for “malignant neoplasm of oropharynx” included an incorrectly excluded 146.5; the header now includes it. The ICD-9 subcode for “branchial cleft” was incorrectly reported as 146.9 and instead should be 146.8. The ICD-9 subcode 146.5 should have been included for “overlapping lesion or oropharynx.”

The ICD-9 heading code 148.2 was added to correct the range provided for “malignant neoplasm of hypopharynx.”

The ICD-9 subcode 149.9 should have been included for “overlapping lesion of lip, oral cavity and pharynx.”

The ICD-10 heading code for “malignant neoplasm of nasal cavity” was incorrectly reported as C30 and instead should be C30.0. To avoid redundancy and improve clarity, the subcode line for “nasal cavity” is stricken.

Digestive System

The ICD-9 heading code 154.8 should have been included for “malignant neoplasm of rectum.”

The ICD-9 heading and subcodes for “malignant neoplasm of other and ill-defined digestive organs” were incorrectly identified as 154.8 and instead should be 159.0, 159.8, and 159.9. Accordingly, the subcodes for “intestinal tract, part unspecified,” “overlapping lesion of digestive system,” and “ill-defined sites within the digestive system” should be 159.0, 159.8, and 159.9, respectively.

Respiratory System

The ICD-9 heading codes for “malignant neoplasm of heart, mediastinum, and pleura” incorrectly omitted some subcodes in 163; therefore, 163.9 instead should be 163. The ICD-9 subcode for “pleura” was incorrectly reported as 163.9 and instead should be 163.0-163.9.

Skin (Non-Melanoma)

The ICD-9 heading code for “other malignant neoplasms of skin” was incorrectly reported as 172 and instead should be 173; the heading code also incorrectly included 187.7, that code is stricken. The ICD-9 subcodes for “other malignant neoplasms of skin” should read 173.0—173.9, respectively.

Melanoma

The ICD-9 subcodes for “malignant melanoma of lower limb, including hip,” “overlapping malignant melanoma of skin,” and “malignant melanoma of skin, unspecified,” were incorrectly reported as 173.7, 173.8, and 173.9, respectively. They should instead be 172.7, 172.8, and 172.9, respectively.

Female Breast

The description of the region for cancer of the breast is clarified to state “Female Breast,” and a note is added to the table to indicate that “For the purposes of this rule, ICD-10 C50 is limited to cancer of the breast in females.” At this level of specificity, C50 does not differentiate by sex and includes both male and female breast cancers, whereas ICD-9 code 174 is specific to females.

Urinary System

The ICD-9 code for “malignant neoplasm of the bladder” was incorrectly reported as 183.0 and instead should be 188.

Eye & Orbit

The ICD-9 subcode 190.7 should have been included for “lacrimal gland and duct.” The ICD-9 subcode for “eye, unspecified” was incorrectly reported as 190.0 and should instead be 190.9.

Blood & Lymphoid Tissue

The ICD-9 subcode for “other specified types of non-Hodgkin lymphoma” was incorrectly reported as 202.3 and instead should be 202.8.

In the note (*) under Table 1, ICD-9 code 289.8 was incorrectly identified as correlating with ICD-10 codes C81-96 and is stricken.

This correction properly corrects the errors listed above by replacing Table 1 published in the Federal Register on September 12, 2012.

In FR Doc. 2012-22304 published on September 12, 2012 in the Federal Register, on pages 56159-56168 the following correction is made:

§ 88.1 [Corrected]

1. On page 56159, in paragraph (4) of the definition of “List of WTC-Related Health Conditions” Table 1 is corrected to read as follows:

Dated: October 14, 2012.
John Howard,
Administrator, World Trade Center Health Program and Director, National Institute for Occupational Safety and Health, Centers for Disease Control and Prevention, Department of Health and Human Services.

[FR Doc. 2012-25142 Filed 10-11-12; 8:45 am]

BILLING CODE 4163-18-P